ENVIRONMENTAL PROTECTION AGENCY

[ER-FRL-6637-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 12, 2002 (67 FR 17992).

Draft EISs

ERP No. D-AFS-F65034-WI Rating LO, Northwest Howell Project, Timber Harvest, Wildlife Openings Maintenance, Aspen and Jack Pine Types Regeneration, Hardwood and Conifer Tree Seedilings Protection, Lakes Habitat Improvements and Transportation System Development, Eagle-Florence District, Chequameg-Nicolet National Forest, Forest and Florence Counties, WI.

Summary: EPA has no objections to this vegetation management plan since the design features in the project should function to avoid and reduce potential impacts.

ERP No. D-AFS-F65035-WI Rating LO, Cayuga Project Area, Various Resource Management Projects, Chequamegon-Nicolet National Forest, Great Divide Ranger District, Ashland County, WI.

Summary: EPA has no objections to the preferred alternative, we believe Alternative 4 is environmentally preferable because of its emphasis on long-term ecosystem health over the desires of forest resource consumers.

ERP No. D-AFS-G65085-NM Rating EC2, Sacramento, Dry Canyon and Davis Grazing Allotments, Authorization of Livestock Grazing Activities, Lincoln National Forst, Sacramento Ranger District, Otero County, NM.

Summary: EPA expressed environmental concerns and requested additional information to address and mitigate potential impacts to federally protected species under the Endangered Species Act.

ERP No. D-BLM-K09808-NV Rating LO, Ivanpah Energy Center Project, 500 Megawatt (MW) Gas-Fired Electric Power Generating Station Construction and Operation, Approval, Right-of-Way Grant, BLM Temporary Use Permit, FHWA Permit to Cross Federal Aid Highway, U.S. Army COE Section 10 and 404 Permits and NPDES Permit Issuance, Clark County, NV.

Summary: EPA expressed a lack of objections with the proposed action.

ERP No. D-BLM-L65407-OR Rating EC2, Lookout Mountain Forest and Rangeland Health Project and Baker Resource Management Plan (RMP) Amendment involving Changes in Visual Resources Management (VRM) Inventory Classes and Decommissioning of Roads, Implementation, Baker City, Baker County, OR.

Summary: EPA expressed environmental concerns with the lack of specific information on noxious weed treatment, and potential impacts to air quality from prescribed burns.

ERP No. D-JUS-K80044-CA Rating LO, Sacramento County Juvenile Hall Expansion Project, Accommodation of 90 New Beds in the Short-Term and 240 New Beds in the Long-Term, Sacramento County, CA.

Summary: EPA has no objection to the proposed action since the DEIS provided an adequate analysis of potential impacts, and all potentially significant impacts have been mitigated or accounted for.

ERP No. DS-COE-E36154-FL Rating LO, Upper St. Johns River Basin and Related Areas, Central and Southern Florida Flood Control Project, New Information concerning Preservation and Enhancement of Floodplain and Aquatic Habitats North of the Fellsmere Grade, Brevard County, FL

Summary: While future monitoring and some changes may be necessary to determine the degree of successful marsh enhancement resulting from these water manipulations, EPA has no environmental objections to its implementation.

Final EISs

ERP No. F-COE-E35086-FL, Fort Pierce Shore Protection Project, Future Dredging of Capron Shoal, Implementation, St. Lucie County, FL.

Summary: EPA determined that the unavoidable losses attendant to implementation of this project have been appropriately mitigated, therefore EPA has no objection to the proposed action.

ERP No. F-DOE-L05224-WA, Maiden Wind Farm Project, Construction and Operation of up to 494 Megawatts (MW) of Wind Generation on Privately-and Publicly-owned Property, Conditional Use Permits, Rattlesnake Hills, Benton and Yakima Counties, WA.

Summary: No formal comment letter was sent to the preparing agency.

ERP No. F-NPS-K61152-CA, Santa Monica Mountains National Recreation Area General Management Plan, Implementation, Los Angeles and Ventura Counties, CA.

Summary: No formal comment letter was sent to the preparing agency.

ERP No. F-USA-E11050-KY, Blue Grass Army Depot, Destruction of Chemical Munitions, Design, Construction, Operation and Closure of a Facility to Destroy the Chemical Agent and Munitions, Madison County, KY.

Summary: EPA has no objection to the proposed action or the various technologies which will be used to accomplish this objective.

Dated: February 4, 2003.
Joseph C. Montgomery,
Director, NEPA Compliance Division, Office of Federal Activities.

[FR Doc. 03-3061 Filed 2-6-03; 8:45 am]

BILLING CODE 6560-50-P